OFFICE OF THE UNITED STATES TRADE REPRESENTATIVE

Fiscal Year 2023 Tariff-Rate Quota Allocations for Refined and Specialty Sugar

AGENCY: Office of the United States Trade Representative.

ACTION: Notice.

SUMMARY: The Office of the United States Trade Representative is providing notice of allocations of the Fiscal Year (FY) 2023 (October 1, 2022 through September 30, 2023) in-quota quantity of the tariff-rate quota (TRQ) for imports of certain sugars, syrups and molasses (also known as refined sugar), including specialty sugar.

DATES: The changes made by this notice are applicable as of September 19, 2022.

FOR FURTHER INFORMATION CONTACT: Erin Nicholson, Office of Agricultural Affairs, at 202-395-9419, or Erin.H.Nicholson@ustr.eop.gov.

SUPPLEMENTARY INFORMATION: Pursuant to Additional U.S. Note 5 to chapter 17 of the Harmonized Tariff Schedule of the United States (HTSUS), the United States maintains TRQs for imports of raw cane sugar and refined sugar. Pursuant to Additional U.S. Note 8 to chapter 17 of the HTSUS, the United States maintains a TRQ for imports of sugar-containing products. Section 404(d)(3) of the Uruguay Round Agreements Act (19 U.S.C. 3601(d)(3)) authorizes the President to allocate the in-quota quantity of a TRQ for any agricultural product among supplying countries or customs areas. The President delegated this authority to the U.S. Trade Representative under Presidential Proclamations 6763 (60 FR 1007) and 7235 (64 FR 55611).

On September 15, 2022, the U.S. Department of Agriculture (USDA) announced the establishment of the in-quota quantity of the FY2023 refined sugar TRQ at 222,000 metric tons raw value (MTRV) for which the sucrose content, by weight in the dry state, must have a polarimeter reading of 99.5 degrees or more. This amount includes the minimum level to which the United States is committed under the WTO Agreement (22,000 MTRV of which 1,656 MTRV is reserved for specialty sugar) and an additional 200,000 MTRV for specialty sugar. The U.S. Trade Representative is allocating the refined sugar TRQ as follows: 10,300 MTRV of refined sugar to Canada, 2,954 MTRV to Mexico, and 7,090 MTRV to be administered on a first-come, first-served basis. Imports of all specialty sugar will be administered on a first-come, first-served basis in five tranches. USDA has announced that the total in-quota quantity of specialty sugar will be the 1,656 MTRV included in the WTO minimum plus an additional 200,000 MTRV. The first tranche of 1,656 MTRV will open October 3, 2022. All types of specialty sugar are eligible for entry under this tranche. The second tranche of 60,000 MTRV will open on October 10, 2022. The third tranche of 60,000 MTRV will open on January 20, 2023. The fourth tranche of 40,000 MTRV will open on April 14, 2023. The fifth tranche of 40,000 MTRV will open on July 14, 2023. The second, third, fourth, and fifth tranches will be reserved for organic sugar and other specialty sugar not currently produced commercially in the United States or reasonably available from domestic sources.

Refined and specialty sugar for the FY2023 TRQ may enter the United States as of October 3, 2022.

Greta Peisch,
General Counsel, Office of the United States Trade Representative.

[FR Doc. 2022-20168 Filed 9-16-22; 8:45 am]

BILLING CODE 3290-F2-P